DEPARTMENT OF ENERGY

Federal Energy Regulatory Commission

[Project No. 15006-000]

Owyhee Energy Storage, LLC; Notice of Preliminary Permit Application Accepted for Filing and Soliciting Comments, Motions To Intervene, and Competing Applications

October 17, 2019.

On September 4, 2019, Owyhee Energy Storage, LLC, filed an application for a preliminary permit, pursuant to section 4(f) of the Federal Power Act (FPA), proposing to study the feasibility of the Owyhee Pumped Storage Project (Owyhee Project or project) to be located on Lake Owyhee, near Adrian, Malheur County, Oregon. The sole purpose of a preliminary permit, if issued, is to grant the permit holder priority to file a license application during the permit term. A preliminary permit does not authorize the permit holder to perform any land-disturbing activities or otherwise enter upon lands or waters owned by others without the owners' express permission.

The proposed project would consist of the following: (1) A new 105-foot-high, 1,260-foot-long zoned earth and rockfill or concrete-face rockfill dam forming a lined upper reservoir with a surface area of 85 acres and a storage capacity of 3,410 acre-feet at a maximum surface elevation of 4,330 feet mean sea level (msl); (2) an existing 470-foot-high, 833-foot-long concrete arch dam forming the existing Lake Owyhee (lower reservoir) with a surface area of 13,900 acres and a storage capacity of 1,120,000 acre-feet at a maximum surface elevation of 2,650 feet msl; (3) a new 14,100-foot-long conduit connecting the upper and lower reservoirs consisting of a 2,200-foot-long, 17-foot-diameter concrete-lined low-pressure tunnel, a 7,100-foot-long, 17-foot-diameter concrete and steel lined pressure shaft, and a 4,800-foot-long, 20-foot-diameter concrete-lined tailrace; (4) a new 80-foot-long, 280-foot-wide, 120-foot-high underground powerhouse containing three reversible pump-turbine units rated at 200 megawatts (MW) each for a total capacity of 600 MW; (5) either 2.6 or 8 miles of double circuit 230-kilovolt transmission line interconnecting with either the Midpoint-Hemingway-Summer Line or the Boardman-Hemingway line, depending on the design of infrastructure; and (6) appurtenant facilities. The estimated annual generation of the Owyhee Project would be 946,080 megawatt-hours.

Applicant Contact: Mr. Luigi Resta, Owyhee Energy Storage, LLC, 201 S. Main St., Ste. 2000, Salt Lake City, Utah 84111; phone: (415) 602-2569.

FERC Contact: John Matkowski; phone: (202) 502-8576.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-15006-000.

More information about this project, including a copy of the application, can be viewed or printed on the “eLibrary” link of Commission's website at http://www.ferc.gov/docs-filing/elibrary.asp. Enter the docket number (P-15006) in the docket number field to access the document. For assistance, contact FERC Online Support.

Dated: October 17, 2019.
Kimberly D. Bose,
Secretary.

[FR Doc. 2019-23098 Filed 10-22-19; 8:45 am]

BILLING CODE 6717-01-P